ENVIRONMENTAL PROTECTION AGENCY

40 CFR Parts 52 and 81

[EPA-R09-OAR-2015-0279; FRL-9935-05-Region 9]

Air Plan Approval; California; Mammoth Lakes; Redesignation; PM10 Maintenance Plan

AGENCY: Environmental Protection Agency (EPA).

ACTION: Final rule.

SUMMARY: The Environmental Protection Agency (EPA) is taking final action to approve, as a revision to the California State Implementation Plan (SIP), California's request to redesignate the Mammoth Lakes nonattainment area to attainment for the 1987 National Ambient Air Quality Standard (NAAQS) for particulate matter of ten microns or less (PM10). Also, EPA is taking final action to approve the PM10 maintenance plan for the Mammoth Lakes area and the associated motor vehicle emissions budgets for use in transportation conformity determinations. Lastly, EPA is finalizing our approval of the 2012 attainment year emissions inventory. We are taking these final actions because the SIP revision meets the requirements of the Clean Air Act and EPA guidance for maintenance plans and motor vehicle emissions budgets.

DATES: This rule will be effective on November 4, 2015.

ADDRESSES: EPA has established docket number EPA-R09-OAR-2015-0279 for this action. Generally, documents in the docket for this action are available electronically at http://www.regulations.gov and in hard copy format at EPA Region IX, 75 Hawthorne Street, San Francisco, California. While all documents in the docket are listed at http://www.regulations.gov, some information may be publicly available only at the hard copy location (e.g., copyrighted material, large maps, multi-volume reports) and some may not be publicly available in either location (e.g., CBI). To inspect the hard copy materials, please schedule an appointment during normal business hours with the contact listed in the FOR FURTHER INFORMATION CONTACT section.

FOR FURTHER INFORMATION CONTACT: Jerry Wamsley, EPA Region IX, (415) 947-4111, wamsley.jerry@epa.gov.

SUPPLEMENTARY INFORMATION: Throughout this document, “we,” “us” and “our” refer to EPA.

Table of Contents

I. Summary of EPA's Proposed Action

II. Public Comments and EPA Responses

III. EPA's Final Action

IV. Statutory and Executive Order Reviews

I. Summary of EPA's Proposed Action

On July 30, 2015, EPA proposed to approve the Mammoth Lakes PM10 redesignation request and maintenance plan. We proposed this action because California's SIP revision meets the Clean Air Act (CAA) requirements and EPA guidance concerning redesignations to attainment of a National Ambient Air Quality Standard (NAAQS or standard) and maintenance plans (80 FR 45477). For our detailed procedural and substantive review of the State's SIP submittal and our discussion of our findings and rationale for our proposal and this final action, please see our proposal and the docket for this action.

First, under CAA section 107(d)(3)(D), EPA proposed to approve the State's request to redesignate the Mammoth Lakes PM10 nonattainment area to attainment for the PM10 NAAQS. In our July 30, 2015 proposal, we concluded that the area has met the five criteria for redesignation under CAA section 107(d)(3)(E): (1) The area has attained the PM10 NAAQS over the period 2009-2014; (2) the required portions of the SIP are fully approved for the area; (3) the improvement in ambient air quality in the area is due to permanent and enforceable reductions in PM10 emissions; (4) California has met all requirements applicable to the Mammoth Lakes PM10 nonattainment area with respect to section 110 and part D of the CAA; and, (5) the Mammoth Lakes PM10 Maintenance Plan, as described below, meets the requirements of CAA section 175A.

Second, under section 110(k)(3) of the CAA, EPA proposed to approve as a revision to the SIP, the maintenance plan developed by the Great Basin Unified Air Pollution Control District (GBUAPCD) entitled “2014 Update Air Quality Maintenance Plan and Redesignation Request for the Town of Mammoth Lakes” (herein and in our proposal referred to as the Mammoth Lakes PM10 Maintenance Plan), dated May 5, 2014, submitted by California, through the California Air Resources Board (CARB), to EPA on October 21, 2014.¹ EPA proposed to find that the Mammoth Lakes PM10 Maintenance Plan meets the requirements in section 175A of the CAA. The plan's maintenance demonstration shows that the Mammoth Lakes area will continue to attain the PM10 NAAQS for at least 10 years beyond redesignation (i.e. through 2030) by continued implementation of the local control measures approved into the SIP. The plan's contingency provisions incorporate a process for identifying new or more stringent control measures in the event of a future monitored violation. Finally, EPA proposed to approve the plan's 2012 emission inventory as meeting the requirements of CAA section 172 and 175A.

¹ See the docket for this action for copies of the California's submittal documents including the October 21, 2014 submittal letter from the State.

Third, EPA proposed to approve the motor vehicle emission budgets (budgets) in the Mammoth Lakes PM10 Maintenance Plan because we find they meet the applicable transportation conformity requirements under 40 CFR 93.118(e). With our proposal published July 30, 2015, EPA informed the public that we are reviewing the plan's budgets for adequacy and that we started the public comment period on adequacy of the proposed budgets. This comment period closed on August 31, 2015. We received no public comments concerning the adequacy of the proposed PM10 motor vehicle emissions budgets.

II. Public Comments and EPA Responses

EPA's proposed rule provided a 30-day comment period. During this comment period we received no comments on our proposal.

III. EPA's Final Action

To conclude, based on our review of the Mammoth Lakes PM10 Maintenance Plan and redesignation request submitted by California, air quality monitoring data, and other relevant materials contained within our docket, EPA finds that the State has addressed all the necessary requirements for redesignation of the Mammoth Lakes nonattainment area to attainment of the PM10 NAAQS, pursuant to CAA sections 107(d)(3)(E) and 175A.

First, under CAA section 107(d)(3)(D), we are approving the State's request, which accompanied the submittal of the Mammoth Lakes PM10 Maintenance Plan, to redesignate the Mammoth Lakes PM10 nonattainment area to attainment for the 24-hour PM10 NAAQS. Our redesignation of the Mammoth Lakes area is based on our determination that the area has met the five criteria for redesignation under CAA section 107(d)(3)(E): (1) The area has attained the 24-hour PM10 NAAQS as demonstrated by 2009-2014 data; ² (2) the relevant portions of the SIP are fully approved; (3) the improvement in air quality in the Mammoth Lakes area is due to permanent and enforceable reductions in PM10 emissions; (4) California has met all requirements applicable to the Mammoth Lakes PM10 nonattainment area with respect to section 110 and part D of the CAA; and, (5) our approval of the Mammoth Lakes PM10 Maintenance Plan, as part of this action.

² We reviewed 2015 preliminary data received from the State and found that the Mammoth Lakes area did not show exceedances of the 24-hour PM10 NAAQS in the first quarter of 2015. Second quarter data was not submitted by the State in time for consideration within this notice.

Second, under section 110(k)(3) of the CAA, EPA is approving the Mammoth Lakes PM10 Maintenance Plan and finds that it meets the requirements of Section 175A. We find that the maintenance demonstration shows that the area will continue to attain the 24-hour PM10 NAAQS for at least 10 years beyond redesignation (i.e., through 2030). We find that the Maintenance Plan provides a contingency process for identifying and adopting new or more stringent control measures if a monitored violation of the PM10 NAAQS occurs. Finally, we are approving the 2012 emissions inventory as meeting applicable requirements for emissions inventories in Sections 172 and 175A of the CAA.

Last, we find that the Mammoth Lakes PM10 Maintenance Plan's motor vehicle emissions budgets meet applicable CAA requirements for maintenance plans and transportation conformity requirements under 40 CFR 93.118(e). With the effective date of this action, these approved budgets must be used in any future regional PM10 regional emissions analysis conducted by the State and the Federal Highway Administration.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and,

• does not provide EPA with the discretionary authority to address, as appropriate, disproportionate human health or environmental effects, using practicable and legally permissible methods, under Executive Order 12898 (59 FR 7629, February 16, 1994).

In addition, the State plan that EPA is approving today does not apply on any Indian reservation land or in any other area where EPA or an Indian tribe has demonstrated that a tribe has jurisdiction. In those areas of Indian country, this rule, as it relates to the maintenance plan, does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 4, 2015. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects

40 CFR Part 52

Environmental protection, Air pollution control, Incorporation by reference, Intergovernmental relations, Particulate matter, Reporting and recordkeeping requirements.

40 CFR Part 81

Environmental protection, Air pollution control, National parks, Wilderness areas.

Authority: 42 U.S.C. 7401 et seq.

Dated: September 18, 2015.
Jared Blumenfeld,
Regional Administrator, Region IX.

Chapter I, title 40 of the Code of Federal Regulations is amended as follows:

PART 52—[AMENDED]

1. The authority citation for part 52 continues to read as follows:

Authority: 42 U.S.C. 7401 et seq.

Subpart F—[Amended]

2. Section 52.220 is amended by adding and reserving paragraph (c)(461) and adding paragraph (c)(462) to read as follows:

§ 52.220 Identification of plan.

* * * * *

(c) * * *

(461) [Reserved]

(462) The following plan was submitted on October 21, 2014, by the Governor's designee.

(i) [Reserved]

(ii) Additional Materials.

(A) Great Basin Unified Air Pollution Control District (GBUAPCD).

(1) “2014 Air Quality Maintenance Plan and Redesignation Request for the Town of Mammoth Lakes” (Mammoth Lakes PM10 Maintenance Plan), adopted on May 5, 2014.

(2) GBUAPCD Board Order #140505-03 adopting the Mammoth Lakes PM10 Maintenance Plan, dated May 5, 2014.

(B) State of California Air Resources Board (CARB).

(1) CARB Resolution 14-27 adopting the redesignation request and Mammoth Lakes PM10 Maintenance Plan, dated September 18, 2014.

PART 81—[AMENDED]

3. The authority citation for part 81 continues to read as follows:

Authority: 42 U.S.C. 7401, et seq.

Subpart C—[Amended]

4. Section 81.305 is amended in the table entitled “California-PM-10” by revising the entry under Mono County for the “Mammoth Lake planning area” to read as follows:

§ 81.305 California.

* * * * *

California—PM-10
Designated area | Designation: Date | Designation: Type | Classification: Date | Classification: Type
* * * * * * *
Mono County
Mammoth Lakes planning area | November 4, 2015 | Attainment |  |
Includes the following sections:
a. Sections 1-12, 17, and 18 of Township T4S, R28E;
b. Sections 25-36 of Township T3S, R28E;
c. Sections 25-36 of Township T3S, R27E;
d. Sections 1-18 of Township T4S, R27E; and,
e. Sections 25 and 36 of Township T3S, R26E.
* * * * * * *

* * * * *

[FR Doc. 2015-25165 Filed 10-2-15; 8:45 am]

BILLING CODE 6560-50-P